DEPARTMENT OF TRANSPORTATION

Federal Aviation Administration

14 CFR Part 39

[Docket No. FAA-2010-0862; Directorate Identifier 2010-CE-040-AD; Amendment 39-16518; AD 2010-23-28]

RIN 2120-AA64

Airworthiness Directives; SOCATA Model TBM 700 Airplanes

AGENCY: Federal Aviation Administration, Department of Transportation.

ACTION: Final rule.

SUMMARY: We are superseding an existing airworthiness directive (AD) for the products listed above. This AD results from mandatory continuing airworthiness information (MCAI) issued by an aviation authority of another country to identify and correct an unsafe condition on an aviation product. The MCAI describes the unsafe condition as:

During a SOCATA flight test, it was noted some difficulties for the pilot to release oxygen. After investigation it was found that, due to the design of the oxygen generator release pin, one of the mask's lanyard linked to the pin could be jammed when it is pulled by a pilot or a passenger.

This condition, if not corrected, would lead, in case of an emergency procedure due to decompression, to a risk of generator fault with subsequent lack of oxygen on crew and/or passenger.

We are issuing this AD to require actions to correct the unsafe condition on these products.

DATES: This AD becomes effective December 29, 2010.

On December 29, 2010, the Director of the Federal Register approved the incorporation by reference of certain publications listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

For service information identified in this AD, contact SOCATA—Direction des services, 65921 Tarbes Cedex 9, France; telephone: 33 (0) 62 41 73 00; fax: + 33 (0) 62 41 76 54; or for the U.S.A: SOCATA NORTH AMERICA, North Perry Airport, 7501 South Airport Rd., Pembroke Pines, Florida 33023; telephone: 1 (954) 893 1400; fax: 1 (954) 964 4141; Internet: http://mysocata.com/. You may review copies of the referenced service information at the FAA, Small Airplane Directorate, 901 Locust, Kansas City, Missouri 64106. For information on the availability of this material at the FAA, call 816-329-4148.

FOR FURTHER INFORMATION CONTACT: Albert Mercado, Aerospace Engineer, FAA, Small Airplane Directorate, 901 Locust, Room 301, Kansas City, Missouri 64106; telephone: (816) 329-4119; fax: (816) 329-4090.

SUPPLEMENTARY INFORMATION:

Discussion

We issued a notice of proposed rulemaking (NPRM) to amend 14 CFR part 39 to include an AD that would apply to the specified products. That NPRM was published in the Federal Register on August 26, 2010 (75 FR 52480), and proposed to supersede AD 2009-23-12, Amendment 39-16086 (74 FR 58539; November 13, 2009). That NPRM proposed to correct an unsafe condition for the specified products. The MCAI states that:

During a SOCATA flight test, it was noted some difficulties for the pilot to release oxygen. After investigation it was found that, due to the design of the oxygen generator release pin, one of the mask's lanyard linked to the pin could be jammed when it is pulled by a pilot or a passenger.

This condition, if not corrected, would lead, in case of an emergency procedure due to decompression, to a risk of generator fault with subsequent lack of oxygen on crew and/or passenger.

For the reason described above, SOCATA released Pilot Operating Handbook (POH) Temporary Revision (TR) 03 which asks, in case of failure to release oxygen, to pull on the other mask lanyard in order to activate the oxygen generator. The Emergency AD 2009-0096-E was issued to mandate the follow-up of these actions by the operators in case of failure. This EAD was subsequently revised into AD 2009-0096R1 in order to clarify the applicability.

A SOCATA modification enabling to solve this issue has been developed. Consequently, this new AD, superseding EASA AD 2009-0096R1 retaining its requirements, requires implementing the modification which is a terminating action.

Comments

We gave the public the opportunity to participate in developing this AD. We considered the comment received.

Retain Page 3.13.5 of TR No. 3

Catherine Hérau, Socata, to maintain consistency with the MCAI, requests that we retain Page 3.13.5 of TR No. 3, dated March 2009, inserted into the Emergency Procedures section and the Limitations section of DAHER-SOCATA TBM 700 A & B POH. We agree with the commenter there is a necessity to keep the associated page of the TR in the POH.

We have deleted the requirement to remove Page 3.13.5 of TR No. 3 from the final rule AD action.

Conclusion

We reviewed the available data, including the comment received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

We estimate that this AD will affect 126 products of U.S. registry. We also estimate that it will take about 1 work-hour per product to comply with the basic requirements of this AD. The average labor rate is $85 per work-hour. Required parts will cost about $66 per product.

Based on these figures, we estimate the cost of this AD to the U.S. operators to be $19,026 or $151 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-16086 (74 FR 58539; November 13, 2009) and adding the following new AD:

2010-23-28 SOCATA: Amendment 39-16518; Docket No. FAA-2010-0862; Directorate Identifier 2010-CE-040-AD.

Effective Date

(a) This airworthiness directive (AD) becomes effective December 29, 2010.

Affected ADs

(b) This AD supersedes AD 2009-23-12, Amendment 39-16086.

Applicability

(c) This AD applies to SOCATA Model TBM 700 airplanes, serial numbers 1 through 204, 206 through 239, and 241 through 243, that are:

(i) certificated in any category; and

(ii) equipped with a chemical oxygen generation system.

Subject

(d) Air Transport Association of America (ATA) Code 35: Oxygen.

Reason

(e) The mandatory continuing airworthiness information (MCAI) states:

During a SOCATA flight test, it was noted some difficulties for the pilot to release oxygen. After investigation it was found that, due to the design of the oxygen generator release pin, one of the mask's lanyard linked to the pin could be jammed when it is pulled by a pilot or a passenger.

This condition, if not corrected, would lead, in case of an emergency procedure due to decompression, to a risk of generator fault with subsequent lack of oxygen on crew and/or passenger.

For the reason described above, SOCATA released Pilot Operating Handbook (POH) Temporary Revision (TR) 03 which asks, in case of failure to release oxygen, to pull on the other mask lanyard in order to activate the oxygen generator. The Emergency AD 2009-0096-E was issued to mandate the follow-up of these actions by the operators in case of failure. This EAD was subsequently revised into AD 2009-0096R1 in order to clarify the applicability.

A SOCATA modification enabling to solve this issue has been developed. Consequently, this new AD, superseding EASA AD 2009-0096R1 retaining its requirements, requires implementing the modification which is a terminating action.

Actions and Compliance

(f) Unless already done, do the following actions:

(1) Before further flight after December 29, 2010 (the effective date of this AD), insert Temporary Revision No. 3, dated March 2009, into the Emergency Procedures section and the Limitations section of DAHER-SOCATA TBM 700 A & B Pilot's Operating Handbook (POH).

(2) Within 7 months after December 29, 2010 (the effective date of this AD) or 100 hours time-in-service (TIS) after December 29, 2010 (the effective date of this AD), whichever occurs first, replace the existing oxygen generator release pin, part number (P/N) T700A3510038100, with an open pin, P/N T700A351004410000, using the accomplishment instructions of DAHER-SOCATA TBM Aircraft Mandatory Service Bulletin SB 70-168, dated December 2009.

(3) After December 29, 2010 (the effective date of this AD), do not install in any affected airplane an oxygen generator release pin, P/N T700A3510038100.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave., SW., Washington, DC 20591, Attn: Information Collection Clearance Officer, AES-200.

Related Information

(h) Refer to MCAI European Aviation Safety Agency (EASA) AD No. 2010-0090, dated May 18, 2010; DAHER-SOCATA TBM 700 A & B Pilot's Operating Handbook (POH), Temporary Revision No. 3, dated March 2009; and DAHER-SOCATA TBM Aircraft Mandatory Service Bulletin SB 70-168, dated December 2009, for related information.

Material Incorporated by Reference

(i) You must use DAHER-SOCATA TBM 700 A & B Pilot's Operating Handbook (POH), Temporary Revision No. 3, dated March 2009; and DAHER-SOCATA TBM Aircraft Mandatory Service Bulletin SB 70-168, dated December 2009, to do the actions required by this AD, unless the AD specifies otherwise.

(1) The Director of the Federal Register approved the incorporation by reference of this service information under 5 U.S.C. 552(a) and 1 CFR part 51.

(2) For service information identified in this AD, contact SOCATA—Direction des services, 65921 Tarbes Cedex 9, France; telephone: 33 (0) 62 41 73 00; fax: + 33 (0) 62 41 76 54; or for the U.S.A.: SOCATA NORTH AMERICA, North Perry Airport, 7501 South Airport Rd., Pembroke Pines, Florida 33023; telephone: 1 (954) 893 1400; fax: 1 (954) 964 4141; Internet: http://mysocata.com/.

(3) You may review copies of the referenced service information at the FAA, Small Airplane Directorate, 901 Locust, Kansas City, Missouri 64106. For information on the availability of this material at the FAA, call 816-329-4148.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on November 4, 2010.
James E. Jackson,
Acting Manager, Small Airplane Directorate, Aircraft Certification Service.

[FR Doc. 2010-28612 Filed 11-23-10; 8:45 am]

BILLING CODE 4910-13-P